DEPARTMENT OF ENERGY

Federal Energy Regulatory Commission

[Docket No. EL19-38-000]

Notice of Complaint; City and County of San Francisco v. Pacific Gas and Electric Company

Take notice that on January 28, 2019, City and County of San Francisco (San Francisco or Complainant) filed a formal complaint (complaint) against Pacific Gas and Electric Company (PG&E or Respondent) pursuant to sections 206, 306, and 309 of the Federal Power Act ¹ (FPA) and Rule 206 of the Federal Energy Regulatory Commission's (Commission) Rules of Practice and Procedure,² alleging that PG&E has violated its open-access Wholesale Distribution Tariff (WDT) and that it is implementing its WDT in a manner that is unjust, unreasonable, and unduly discriminatory. San Francisco requests that the Commission (1) direct PG&E to comply with its Tariff by offering San Francisco the secondary and primary-plus wholesale distribution service provided for by the WDT; (2) direct PG&E to pay refunds to San Francisco consistent with the filed rate; and (3) take any such other actions that the Commission finds necessary or appropriate to address PG&E's tariff violations and to assure that the WDT and PG&E's implementation of that Tariff are just, reasonable, and not unduly discriminatory, all as more fully explained in the complaint.

¹ 16 U.S.C. 824e, 825e, and 825h.

² 18 CFR 385.206.

San Francisco certifies that copies of the complaint were served on contacts for PG&E as listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainant.

The Commission encourages electronic submission of protests and interventions in lieu of paper using the “eFiling” link at http://www.ferc.gov. Persons unable to file electronically should submit an original and 5 copies of the protest or intervention to the Federal Energy Regulatory Commission, 888 First Street NE, Washington, DC 20426.

This filing is accessible on-line at http://www.ferc.gov, using the “eLibrary” link and is available for electronic review in the Commission's Public Reference Room in Washington, DC. There is an “eSubscription” link on the website that enables subscribers to receive email notification when a document is added to a subscribed docket(s). For assistance with any FERC Online service, please email FERCOnlineSupport@ferc.gov, or call (866) 208-3676 (toll free). For TTY, call (202) 502-8659.

Comment Date: 1:00 p.m. Eastern Time on February 19, 2019.

Dated: January 29, 2019.
Kimberly D. Bose,
Secretary.

[FR Doc. 2019-00966 Filed 2-4-19; 8:45 am]

BILLING CODE 6717-01-P